DEPARTMENT OF ENERGY

Federal Energy Regulatory Commission

Combined Notice of Filings

Take notice that the Commission has received the following Natural Gas Pipeline Rate and Refund Report filings:

Filings Instituting Proceedings

Docket Numbers: RP13-297-000.

Applicants: KPC Pipeline, LLC.

Description: KPC Name Change to be effective 11/1/2012.

Filed Date: 11/19/12.

Accession Number: 20121119-5102.

Comments Due: 5 p.m. ET 12/3/12.

Docket Numbers: RP13-298-000.

Applicants: National Fuel Gas Supply Corporation.

Description: Market Pooling to be effective 12/19/2012.

Filed Date: 11/19/12.

Accession Number: 20121119-5132.

Comments Due: 5 p.m. ET 12/3/12.

Docket Numbers: RP13-299-000.

Applicants: National Fuel Gas Supply Corporation.

Description: Storage Service Enhancements to be effective 12/19/2012.

Filed Date: 11/19/12.

Accession Number: 20121119-5139.

Comments Due: 5 p.m. ET 12/3/12.

Docket Numbers: RP13-300-000.

Applicants: Maritimes & Northeast Pipeline, L.L.C.

Description: Non-Conforming Agreements to be effective 12/31/2012.

Filed Date: 11/20/12.

Accession Number: 20121120-5000.

Comments Due: 5 p.m. ET 12/3/12.

Docket Numbers: RP13-301-000.

Applicants: Venice Gathering System, LLC.

Description: Petition for Temporary Exemption from Certain Tariff Provisions of Venice Gathering System, L.L.C.

Filed Date: 11/19/12.

Accession Number: 20121119-5186.

Comments Due: 5 p.m. ET 12/3/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-107-001.

Applicants: Bison Pipeline LLC.

Description: RP13-107-000 NAESB Compliance to be effective 12/1/2012.

Filed Date: 11/19/12.

Accession Number: 20121119-5163.

Comments Due: 5 p.m. ET 12/3/12.

Docket Numbers: RP13-109-001.

Applicants: ANR Pipeline Company.

Description: RP13-109-000 NAESB Compliance to be effective 12/1/2012.

Filed Date: 11/19/12.

Accession Number: 20121119-5167.

Comments Due: 5 p.m. ET 12/3/12.

Docket Numbers: RP13-111-001.

Applicants: North Baja Pipeline, LLC.

Description: RP13-111 NAESB Compliance to be effective 12/1/2012.

Filed Date: 11/19/12.

Accession Number: 20121119-5166.

Comments Due: 5 p.m. ET 12/3/12.

Docket Numbers: RP13-114-001.

Applicants: Gas Transmission Northwest LLC.

Description: RP13-114 NAESB Compliance to be effective 12/1/2012.

Filed Date: 11/19/12.

Accession Number: 20121119-5170.

Comments Due: 5 p.m. ET 12/3/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated November 20, 2012.
Nathaniel J. Davis, Sr.,
Deputy Secretary.

[FR Doc. 2012-28969 Filed 11-29-12; 8:45 am]

BILLING CODE 6717-01-P